DEPARTMENT OF THE INTERIOR

Bureau of Ocean Energy Management

[Docket No. BOEM-2020-0018]

Outer Continental Shelf (OCS), Alaska Region (AK), Cook Inlet Planning Area, Proposed Oil and Gas Lease Sale 258

AGENCY: Bureau of Ocean Energy Management, Interior.

ACTION: Notice of intent to prepare an Environmental Impact Statement and provide public scoping opportunities.

SUMMARY: Consistent with the regulations implementing the National Environmental Policy Act (NEPA), the Bureau of Ocean Energy Management (BOEM) is announcing its intent to prepare an Environmental Impact Statement (EIS) for the proposed 2021 Cook Inlet Lease Sale 258 in the Cook Inlet Planning Area. The EIS will focus on the potential effects of leasing, exploration, development, and production of oil and natural gas in the proposed lease sale area. In addition to the no action alternative (i.e., not holding the lease sale), other alternatives will be considered.

DATES: All interested parties, including Federal, State, Tribal, and local governments, and the general public, may submit written comments by October 13, 2020 on the scope of the Lease Sale 258 EIS, significant issues, reasonable alternatives, and potential mitigation measures.

Comments may be made online at https://www.regulations.gov/. Search for Docket BOEM-2020-0018, or “Oil and Gas Lease Sales: Alaska Outer Continental Shelf; Lease Sale 258,” and click on the “Comment Now!” button. Enter your information and comment, and then click “Submit.” Before including your address, phone number, email address, or other personally identifying information in your comment, you should be aware that your entire comment—including your personally identifying information—may be made publicly available at any time. While you can ask us in your comment to withhold your personally identifying information from public review, we cannot guarantee that we will be able to do so. Pursuant to the regulations implementing the procedural provisions of NEPA, BOEM will provide the public the opportunity to provide comments on the scope of the Lease Sale 258 EIS. To protect the health of local communities and minimize in-person contact during the Covid-19 pandemic, public scoping will be conducted online. To participate in the scoping process, interested parties can visit BOEM's virtual “meeting room” at https://www.boem.gov/ak258-scoping any time through October 13, 2020. This “meeting room” page will include:

• An overview of the lease sale.

• Links to pages with more information on the NEPA process, the BOEM National Program, and the natural and human environment in Cook Inlet.

• A field for readers to submit questions to BOEM electronically. Responses to questions will be posted on www.boem.gov/ak258-scoping.

• Directions for providing written comments on https://www.regulations.gov.

In addition, BOEM will hold two live virtual meetings during the 30-day scoping period. Details of these meetings will be posted on www.boem.gov/ak258-scoping with the publication of this Notice.

FOR FURTHER INFORMATION CONTACT: For information on the Lease Sale 258 EIS, the submission of comments, or BOEM's policies associated with this notice, please contact Amee Howard, Project Manager, BOEM Office of Environment, Alaska Region, 3801 Centerpoint Drive, Suite 500, Anchorage, AK 99503, (907) 334-5200.

SUPPLEMENTARY INFORMATION: On November 28, 2016, the Secretary of the Interior (Secretary) released the 2017-2022 National OCS Oil and Gas Leasing Proposed Final Program (Proposed Final Program). The Proposed Final Program includes the proposed 2021 Cook Inlet Lease Sale. On January 17, 2017, the Secretary issued a memorandum with a decision to proceed with the OCS leasing program as described in the Proposed Final Program.

The proposed lease sale area consists of 224 lease blocks and covers approximately 442,875 hectares (or 1.09 million acres) located offshore of the State of Alaska in Federal waters in the northern portion of Cook Inlet. For more information, go to: https://www.boem.gov/ak258.

This Notice of Intent is not an announcement to hold a lease sale but is a continuation of the information gathering process and is published early in the environmental review process in furtherance of the goals of NEPA. The comments received during scoping will help inform the content of the Lease Sale 258 EIS. If, after completion of the EIS, the Department of the Interior's Assistant Secretary for Land and Minerals Management chooses to hold the proposed lease sale, that decision and the details related to the proposed lease sale (including the lease sale area and any mitigation) will be announced in a Record of Decision and Final Notice of Sale.

Scoping Process: This Notice of Intent also serves to announce the scoping process for identifying key issues to be addressed in the Lease Sale 258 EIS. Throughout the scoping process, Federal, State, Tribal and local governments, and the general public have the opportunity to provide input to BOEM in determining significant resources, issues, impacts, reasonable alternatives, and potential mitigation measures to be analyzed in the EIS. BOEM has developed and seeks public input on the following draft alternatives:

• Beluga Whale Mitigation Alternative. This alternative is proposed to minimize potential impacts to the ESA-listed, Cook Inlet Distinct Population Segment (DPS) beluga whale.

• Northern Sea Otter Mitigation Alternative. This alternative is proposed to minimize potential impacts to ESA-listed, Southwest Alaska DPS of the northern sea otter.

• Gillnet Fishery Mitigation Alternative. This alternative is proposed to reduce the potential for conflicts with the Cook Inlet drift gillnet fishery.

Maps and more details on each of these draft alternatives can be found at: https://www.boem.gov/ak258.

These draft alternatives are based on and in response to stakeholder comments made during the development of the 2017-2022 Draft Proposed Program, the 2017-2022 Proposed Program and Draft Programmatic EIS and the Cook Inlet Lease Sale 244 (held in 2017) NEPA process. BOEM is proceeding in a manner that allows for maximum flexibility in use of the components of these preliminary alternatives in future decision making.

BOEM will consider additional alternatives, exclusions, and/or mitigation suggestions identified during the scoping process and the comment period initiated by this notice of intent in the preparation of the EIS.

BOEM will use the NEPA commenting process to satisfy the public comment requirements of the National Historic Preservation Act (54 U.S.C. 306108), as provided for in 36 CFR 800.2(d)(3).

Cooperating Agencies: BOEM invites qualified government entities such as other Federal agencies, State, Tribal, and local governments, to consider becoming cooperating agencies for the preparation of the Cook Inlet Lease Sale 258 EIS. Following the guidelines at 40 CFR 1501.6 and 1508.5 from the Council on Environmental Quality (CEQ), qualified agencies and governments are those with “jurisdiction by law or special expertise.” Potential cooperating agencies should consider their authority and capacity to assume the responsibilities of a cooperating agency and remember that an agency's role in the environmental analysis neither enlarges nor diminishes the final decision-making authority of any other agency involved in the NEPA process. Upon request, BOEM will provide potential cooperating agencies with a written summary of guidelines for cooperating agencies, including time schedules and critical action dates, milestones, responsibilities, and scope and detail of cooperating agencies' contributions. BOEM anticipates this summary will form the basis for a Memorandum of Understanding between BOEM and any cooperating agency. BOEM, as the lead agency, will not provide financial assistance to cooperating agencies. In addition to becoming a cooperating agency, other opportunities will exist to provide information and comments to BOEM during the public comment period for the Cook Inlet Lease Sale 258 EIS. For additional information about cooperating agencies, please contact Amee Howard, Project Manager, BOEM Office of Environment (907-334-5200).

Authority: This notice of intent is published pursuant to the regulations at 40 CFR 1501.7 implementing the provisions of NEPA.

Walter D. Cruickshank,
Acting Director, Bureau of Ocean Energy Management.

[FR Doc. 2020-20029 Filed 9-9-20; 8:45 am]

BILLING CODE 4310-MR-P